DEPARTMENT OF TRANSPORTATION

Federal Aviation Administration

14 CFR Part 39

[Docket No. FAA-2004-18809; Directorate Identifier 2004-NM-91-AD]

RIN 2120-AA64

Airworthiness Directives; Airbus Model A319, A320, and A321 Series Airplanes

AGENCY: Federal Aviation Administration (FAA), DOT.

ACTION: Notice of proposed rulemaking (NPRM).

SUMMARY: The FAA proposes to adopt a new airworthiness directive (AD) for certain Airbus Model A319, A320, and A321 series airplanes. This proposed AD would require revising the Airplane Flight Manual (AFM) to prohibit operators from performing CAT 2 or CAT 3 automatic landings or roll-outs at certain airports. This proposed AD also provides for an optional terminating action for the AFM revision. This proposed AD is prompted by data showing that the magnetic variation table installed in the Honeywell Inertial Reference System (IRS) is obsolete at certain airports. We are proposing this AD to prevent the airplane from departing the runway during a CAT 2 or CAT 3 automatic landing or roll-out, due to magnetic and IRS deviations.

DATES: We must receive comments on this proposed AD by September 9, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: room PL-401 on the plaza level of the Nassif Building, 400 Seventh Street SW, Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or at the Docket Management Facility, U.S. Department of Transportation, 400 Seventh Street SW, room PL-401, on the plaza level of the Nassif Building, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18809; Directorate Identifier 2004-NM-91-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified the FAA that an unsafe condition may exist on certain Airbus Model A319, A320, and A321 series airplanes with certain Honeywell Inertial Reference Systems (IRS) installed. The DGAC advises that the magnetic variation table installed in the Honeywell IRS is obsolete at certain airports. Studies have shown that, for a given airport, a difference greater than 3 degrees between the real magnetic deviation and the deviation in the IRS could result in misinformation to the flightcrew during the phases of CAT 2 or CAT 3 automatic landing or roll-out. Such conditions could result in the airplane departing the runway during a CAT 2 or CAT 3 automatic landing or roll-out.

Relevant Service Information

Airbus has issued the following service information:

• Temporary Revision (TR) 2.05.00/52, dated June 13, 2003 (for Model A318/319/320/321 series airplanes), which provides the flightcrew with operational limitations that prohibit operators from performing CAT 2 or CAT 3 automatic landings or roll-outs at airports where there is a difference greater than 3 degrees between the real magnetic deviation and the deviation in the IRS. The TR lists affected airports and date by which autoland/roll-out are prohibited.

• Service Bulletin A320-34-1231, Revision 02, dated October 10, 2002 (for Model A320 series airplanes), which describes procedures for replacing the three existing Honeywell Air Data Inertial Reference Units (ADIRUs) with new Honeywell ADIRUs. The service bulletin recommends prior or concurrent accomplishment of Airbus Service Bulletin A320-34-1084, dated September 15, 1994. The concurrent service bulletin describes procedures for replacing the ADIRUs with new ADIRUs, and recommends prior or concurrent accomplishment of the modification of certain ADIRU equipment, as specified in Airbus Service Bulletin A320-34-1010, dated September 6, 1989. The service bulletin also references Honeywell Service Bulletin HG1150AC-34-06, Revision 6, dated January 30, 2003, as an additional source of service information for replacing the ADIRUs. Service Bulletin A320-34-1231, Revision 02, also references Honeywell Service Bulletin HG1150AC-34-0007, Revision 001, dated September 18, 2001, an additional source of service information for replacing the ADIRUs.

• Service Bulletin A320-34-1240, Revision 01, dated October 10, 2001 (for Model A319, A320, and A321 series airplanes), which describes procedures for replacing the three existing Honeywell ADIRUs with new Honeywell ADIRUs. The service bulletin recommends prior or concurrent accomplishment of Airbus Service Bulletin A320-34-1129, Revision 01, dated July 22, 1997. The concurrent service bulletin describes procedures for replacing the three Honeywell ADIRUs with new Honeywell ADIRUs. Service Bulletin A320-34-1240, Revision 01, also references Honeywell Service Bulletin HG2030AC-34-0009, Revision 1, dated October 1, 2002, as an additional source of service information for replacing the ADIRUs.

• Service Bulletin A320-34-1249, dated June 25, 2001 (for Model A319, A320, and A321 series airplanes), which describes procedures for replacing the three existing Honeywell ADIRUs with new, electrically and mechanically interchangeable Honeywell ADIRUs. The service bulletin recommends prior or concurrent accomplishment of Airbus Service Bulletins A320-34-1136, dated June 5, 1997, and A320-34-1214, dated July 28, 2000. The concurrent service bulletins also describe procedures for replacing the three existing Honeywell ADIRUs with new ADIRUs; however, Service Bulletin A320-34-1214 describes procedures for replacing the Litton ADIRUs with Honeywell ADIRUs. Service Bulletin A320-34-1249 also references Honeywell Service Bulletin HG2030AD-34-0007, Revision 1, dated June 4, 2001, as an additional source of service information for replacing the ADIRUs.

We have determined that accomplishing the actions specified in the TR will adequately address the unsafe condition. The DGAC mandated the TR and issued French airworthiness directive 2003-270(B), dated July 23, 2003, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for products of this type design that are certificated for operation in the United States.

The proposed AD would require you to use the Airbus service information described previously to perform these actions.

Costs of Compliance

This proposed AD would affect about 242 airplanes of U.S. registry. The proposed AFM revision would take about 1 work hour per airplane, at an average labor rate of $65 per work hour. Based on these figures, the estimated cost of the proposed AFM revision for U.S. operators is $15,730, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2004-18809; Directorate Identifier 2004-NM-91-AD.

Comments Due Date

(a) The Federal Aviation Administration must receive comments on this AD action by September 9, 2004.

Affected ADs

(b) None.

Applicability

(c) This AD applies to Model A319, A320, and A321 series airplanes; certificated in any category; equipped with a Honeywell Air Data Inertial Reference Unit (ADIRU) having any part number (P/N) listed in Table 1 of this AD; on which Airbus Modification 30652, 30941, or 30942 has not been done.

Table 1.—Honeywell ADIRU P/N
HG1150AC05
HG1150AC06
HG2030AC05
HG2030AC06
HG2030AC08
HG2030AC09
HG2030AD09

(d) This AD was prompted by data showing that the magnetic variation table installed in the Honeywell inertial reference system (IRS) is obsolete at certain airports. We are issuing this AD to prevent the airplane from departing the runway during a CAT 2 or CAT 3 automatic landing or roll-out, due to magnetic and IRS deviations.

Compliance

(e) You are responsible for having the actions required by this AD performed within the compliance times specified, unless the actions have already been done.

Airplane Flight Manual (AFM) Revision

(f) Within 14 days after the effective date of this AD: Revise the Limitations Section of the Airbus A318/319/320/321 AFM to prohibit operators from performing CAT 2 or CAT 3 automatic landings or roll-outs at certain airports by incorporating Airbus Temporary Revision (TR) 2.05.00/52, dated June 13, 2003, into the AFM, and operate the airplane in accordance with those limitations.

(g) When the information incorporating Airbus TR 2.05.00/52, dated June 13, 2003, has been incorporated into the general revisions of the AFM, the general revisions may be inserted into the AFM, and the TR may be removed from the AFM.

Optional Terminating Action

(h) Replacement of Honeywell ADIRUs having a P/N listed in Table 1 of this AD with new ADIRUs having new P/Ns, by doing all the actions using the Accomplishment Instructions of Airbus Service Bulletin A320-34-1231, Revision 02, dated October 10, 2002 (for Model A320 series airplanes); A320-34-1240, Revision 01, dated October 10, 2001 (for Model A319, A320, and A321 series airplanes); or A320-34-1249, dated June 25, 2001 (for Model A319, A320, and A321 series airplanes); as applicable; terminates the AFM revision required by paragraph (f) of this AD. Following accomplishment of the replacement, the TR must be removed from the AFM.

(i) Prior to or concurrently with accomplishment of paragraph (h) of this AD: Do the replacements using Airbus Service Bulletin A320-34-1084, dated September 15, 1994 (for Model A320 series airplanes); A320-34-1129, Revision 01, dated July 22, 1997 (for Model A319, A320, and A321 series airplanes); or A320-34-1136, dated June 5, 1997 (for Model A319, A320, and A321 series airplanes); as applicable.

(j) Prior to or concurrently with accomplishment of Airbus Service Bulletin A320-34-1084: Do the modification of certain ADIRU equipment using Airbus Service Bulletin A320-34-1010, dated September 6, 1989 (for Model A320 series airplanes).

(k) Honeywell Service Bulletins HG1150AC-34-0007, Revision 001, dated September 18, 2001; HG2030AC-34-0009, Revision 1, dated October 1, 2002; and HG2030AD-34-0007, Revision 1, dated June 4, 2001; are referenced in the Airbus Service Bulletins specified in paragraph (h) of this AD as additional sources of service information for accomplishment of the replacement of the ADIRUs.

Alternative Methods of Compliance (AMOCs)

(l) The Manager, International Branch, ANM-116, FAA, Transport Airplane Directorate, has the authority to approve AMOCs for this AD, if requested in accordance with the procedures found in 14 CFR 39.19.

Related Information

(m) The subject of this AD is addressed in French airworthiness directive 2003-270(B), dated July 23, 2003.

Issued in Renton, Washington, on August 2, 2004.
Ali Bahrami,
Manager, Transport Airplane Directorate, Aircraft Certification Service.

[FR Doc. 04-18222 Filed 8-9-04; 8:45 am]

BILLING CODE 4910-13-P